NUCLEAR REGULATORY COMMISSION

[Docket No. 50-261; NRC-2025-0076]

Duke Energy Progress, LLC; H. B. Robinson Steam Electric Plant, Unit No. 2; Draft Supplemental Environmental Impact Statement

AGENCY: Nuclear Regulatory Commission.

ACTION: Notice; request for comment.

SUMMARY: The U.S. Nuclear Regulatory Commission (NRC, the Commission) is issuing for public comment draft Supplement 13, Second Renewal to the Generic Environmental Impact Statement (GEIS) for License Renewal of Nuclear Plants, NUREG-1437, regarding the proposed subsequent renewal of Renewed Facility Operating License No. DRP-23 for an additional 20 years for H. B. Robinson Steam Electric Plant, Unit No. 2 (RNP). RNP is located in Darlington County, South Carolina, approximately 5 miles west-northwest of Hartsville, South Carolina. This document includes the NRC staff's preliminary analysis of the environmental impacts of the proposed action of RNP subsequent license renewal (SLR), as well as the environmental impacts of the no-action alternative, including replacement energy alternatives under the no-action alternative.

DATES: Members of the public are invited to submit comments by February 23, 2026. Comments received after this date will be considered if it is practical to do so, but the NRC is able to ensure consideration only for comments received on or before this date.

ADDRESSES: You may submit comments by any of the following methods; however, the NRC encourages electronic comment submission through the Federal rulemaking website:

• Federal Rulemaking Website: Go to https://www.regulations.gov and search for Docket ID NRC-2025-0076. Address questions about Docket IDs in Regulations.gov to Bridget Curran; telephone: 301-415-1003; email: Bridget.Curran@nrc.gov. For technical questions, contact the individual listed in the For Further Information Contact section of this document.

• Mail comments to: Office of Administration, Mail Stop: TWFN-7-A60M, U.S. Nuclear Regulatory Commission, Washington, DC 20555-0001, ATTN: Program Management, Announcements and Editing Staff.

For additional direction on obtaining information and submitting comments, see “Obtaining Information and Submitting Comments” in the SUPPLEMENTARY INFORMATION section of this document.

FOR FURTHER INFORMATION CONTACT: Karen Loomis, Office of Nuclear Material Safety and Safeguards, U.S. Nuclear Regulatory Commission, Washington, DC 20555-0001; telephone: 301-415-5142; email: Karen.Loomis@nrc.gov.

SUPPLEMENTARY INFORMATION:

I. Obtaining Information and Submitting Comments

A. Obtaining Information

Please refer to Docket ID NRC-2025-0076 when contacting the NRC about the availability of information regarding this document. You may obtain publicly available information related to this action using any of the following methods:

• Federal Rulemaking Website: Go to https://www.regulations.gov and search for Docket ID NRC-2025-0076.

• NRC's Agencywide Documents Access and Management System (ADAMS): You may obtain publicly available documents online in the ADAMS Public Documents collection at https://www.nrc.gov/reading-rm/adams.html. To begin the search, select “Begin ADAMS Public Search.” For problems with ADAMS, please contact the NRC's Public Document Room (PDR) reference staff at 1-800-397-4209, at 301-415-4737, or by email to PDR.Resource@nrc.gov. Draft Supplement 13, Second Renewal, to the GEIS for License Renewal of Nuclear Plants, NUREG-1437, is available in ADAMS under Accession No. ML25344A144.

• NRC's PDR: The PDR, where you may examine and order copies of publicly available documents, is open by appointment. To make an appointment to visit the PDR, please send an email to PDR.Resource@nrc.gov or call 1-800-397-4209 or 301-415-4737, between 8 a.m. and 4 p.m. eastern time (ET), Monday through Friday, except Federal holidays.

• Public Library: A copy of draft Supplement 13, Second Renewal to the GEIS for License Renewal of Nuclear Plants, NUREG-1437, will be available for public review at the Hartsville Memorial Library, 147 West College Ave., Hartsville, SC 29550.

B. Submitting Comments

The NRC encourages electronic comment submission through the Federal rulemaking website (https://www.regulations.gov). Please include Docket ID NRC-2025-0076 in your comment submission.

The NRC cautions you not to include identifying or contact information that you do not want to be publicly disclosed in your comment submission. The NRC will post all comment submissions at https://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Discussion

The NRC is issuing for public comment draft Supplement 13, Second Renewal to the GEIS for License Renewal of Nuclear Plants, NUREG-1437. This document includes the NRC staff's preliminary analysis of the environmental impacts of the proposed action of RNP SLR and the alternative to the proposed action. The NRC staff's preliminary recommendation is that the adverse environmental impacts of RNP SLR are not so great that preserving the option of SLR for energy-planning decisionmakers would be unreasonable and that the environmentally preferred alternative is the proposed action.

Dated: January 5, 2026.
For the Nuclear Regulatory Commission.
Stephen Koenick,
Chief, Environmental Project Management Branch 1, Division of Rulemaking, Environmental, and Financial Support, Office of Nuclear Material Safety and Safeguards.

[FR Doc. 2026-00236 Filed 1-8-26; 8:45 am]

BILLING CODE 7590-01-P